DEPARTMENT OF ENERGY

Federal Energy Regulatory Commission

[Docket No. RP01-592-000]

Great Lakes Gas Transmission Limited Partnership; Notice of Tariff Filing and Annual Charge Adjustment

September 13, 2001.

Take notice that on September 7, 2001, Great Lakes Gas Transmission Limited Partnership (Great Lakes) tendered for filing as part of its FERC Gas Tariff Second Revised Volume No. 1 the following, with an effective date of October 1, 2001:

Twelfth Revised Sheet No. 7

Great Lakes states that this tariff sheet is being filed to reflect the new ACA rate to be charged pursuant to the Annual Charges Adjustment Clause provisions established by the Commission in Order No. 472 issued May 29, 1987, as revised. Great Lakes is also requesting waiver of the requirements under § 154.207 that all proposed changes in FERC gas tariffs be filed not less than thirty (30) days prior to the proposed effective date of the revised tariff sheets, citing the time required to resolve a data discrepancy.

Any person desiring to be heard or to protest said filing should file a motion to intervene or a protest with the Federal Energy Regulatory Commission, 888 First Street, N.E., Washington, D.C. 20426, in accordance with Sections 385.214 or 385.211 of the Commission's Rules and Regulations. All such motions or protests must be filed on or before September 20, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-23396 Filed 9-19-01; 8:45 am]

BILLING CODE 6717-01-P